DEPARTMENT OF DEFENSE

Office of the Secretary

[Transmittal No. 17-52]

Arms Sales Notification

AGENCY: Defense Security Cooperation Agency, Department of Defense.

ACTION: Arms sales notice.

SUMMARY: The Department of Defense is publishing the unclassified text of an arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(1) arms sales notification is published to fulfill the requirements of section 155 of Public Law 104-164 dated July 21, 1996. The following is a copy of a letter to the Speaker of the House of Representatives, Transmittal 17-52 with attached Policy Justification.

Dated: March 27, 2018.
Shelly E. Finke,
Alternate OSD Federal Register Liaison Officer, Department of Defense.

Transmittal No. 17-52

Notice of Proposed Issuance of Letter of Offer Pursuant to Section 36(b)(1) of the Arms Export Control Act, as amended

(i) Prospective Purchaser: Kingdom of Saudi Arabia

(ii) Total Estimated Value:

Major Defense Equipment * | $ 0 million
Other | $106.8 million
Total | $106.8 million

(iii) Description and Quantity or Quantities of Articles or Services under Consideration for Purchase:

Major Defense Equipment (MDE): None

Non-MDE:

Continuation of Maintenance Support Services (MSS) contract that supports the Royal Saudi Land Forces Aviation Command's (RSLFAC) fleet of AH-64D/E, UH-60L, Schweizer 333 and Bell 406CS helicopters. The MSS contract services includes the management and installation of engineering change proposals and modification work orders; Repair and Return (R&R) management services and component repairs; aircraft simulator logistics, maintenance and technical support; training; and maintenance management support for the RSLFAC Headquarters staff; and other related elements of logistics and program support.

(iv) Military Department: Army (SR-B-ZAU)

(v) Prior Related Cases, if any: SR-B-UAF; SR-B-UGZ; SR-B-WAL

(vi) Sales Commission, Fee, etc., Paid, Offered, or Agreed to be Paid: None

(vii) Sensitivity of Technology Contained in the Defense Article or Defense Services Proposed to be Sold: None

(viii) Date Report Delivered to Congress: March 22, 2018

* As defined in Section 47(6) of the Arms Export Control Act.

POLICY JUSTIFICATION

Kingdom of Saudi Arabia—Continuation of Maintenance Support Services (MSS)

The Kingdom of Saudi Arabia has requested the continuation of the Maintenance Support Services (MSS) contract that supports the Royal Saudi Land Forces Aviation Command's (RSLFAC) fleet of AH-64D/E, UH-60L, Schweizer 333 and Bell 406CS helicopters. The MSS contract services includes management and installation of engineering change proposals and modification work orders; Repair and Return (R&R) management services and component repairs; aircraft simulator logistics, maintenance and technical support; training; and maintenance management support for the RSLFAC Headquarters staff; and other related elements of logistics and program support. The estimated total case value is $106.8 million.

This proposed sale will support U.S. foreign policy and national security objectives by helping to improve the security of a friendly country which has been, and continues to be, an important force for political stability and economic growth in the Middle East. This potential sale is a continuation of current support. Saudi Arabia will have no difficulty absorbing this equipment and support into its armed forces.

The continuation of MSS services will aid in the maintenance support of Saudi Arabia's rotary wing aircraft fleet, engines, avionics, weapons, and missile components.

The proposed sale of this equipment and support will not alter the basic military balance in the region.

The principal contractor will be DynCorps International, Mclean, VA. There are no known offset agreements in connection with this potential sale.

Implementation of this proposed sale will require the assignment of one (1) U.S. Government and up to three hundred twenty (320) contractor representatives to travel to Saudi Arabia for a period of two (2) years.

There will be no adverse impact on U.S. defense readiness as a result of this proposed sale.

[FR Doc. 2018-06529 Filed 3-30-18; 8:45 am]

BILLING CODE 5001-06-P